DEPARTMENT OF HEALTH AND HUMAN SERVICES

National Institutes of Health

Submission for OMB Review; 30-Day Comment Request; Generic Clearance for the Collection of Qualitative Feedback on Agency Service Delivery, (National Cancer Institute)

AGENCY: National Institutes of Health, HHS.

ACTION: Notice.

SUMMARY: In compliance with the Paperwork Reduction Act of 1995, the National Institutes of Health (NIH) has submitted to the Office of Management and Budget (OMB) a request for review and approval of the information collection listed below. This proposed information collection was previously published in the Federal Register on December 13, 2016 page 89954 (81 FR (89954) and allowed 60 days for public comment. No public comments were received. The purpose of this notice is to allow an additional 30 days for public comment.

DATES: Comments regarding this information collection are best assured of having their full effect if received within 30-days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: Karla Bailey, Office of Management Policy and Compliance, National Cancer Institute, 9609 Medical Center Drive, Bethesda, MD 20892-9760 or call non-toll-free number (240) 276-5582 or Email your request, including your address to: karla.bailey@nih.gov.

SUPPLEMENTARY INFORMATION: The National Cancer Institute (NCI), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Generic Clearance for the Collection of Qualitative Feedback on Agency Service Delivery (NCI), 0925-0642, Revision, National Cancer Institute (NCI), National Institutes of Health (NIH).

Need and Use of Information Collection: This information collection activity is collecting qualitative customer and stakeholder feedback in an efficient, timely manner, in accordance with the Administration's commitment to improving service delivery. This generic provides information about the National Cancer Institute's customer or stakeholder perceptions, experiences and expectations, provide an early warning of issues with service, or focus attention on areas where communication, training or changes in operations might improve delivery of products or services. It also allows feedback to contribute directly to the improvement of program management. Feedback collected under this generic clearance provides useful information but it will not yield data that can be generalized to the overall population.

OMB approval is requested for 3 year. There are no costs to respondents other than their time. The total estimated annualized burden hours are 8,917.

Estimated Annualized Burden Hours
Type of collection | Number of respondents | Number of responses per respondent | Average burden per response (in hours) | Total burden hours
Surveys | 10,000 | 1 | 30/60 | 5,000
In-Depth Interviews (IDIs) or Small Discussion Groups | 500 | 1 | 90/60 | 750
Focus Groups | 1,000 | 1 | 90/60 | 1,500
Website or Software Usability Tests | 5,000 | 1 | 20/60 | 1,667
Total | 16,500 | 16,500 |  | 8,917

Dated: February 15, 2017.
Karla Bailey,
Project Clearance Liaison, National Cancer Institute, National Institutes of Health.

[FR Doc. 2017-04254 Filed 3-3-17; 8:45 am]

BILLING CODE 4140-01-P